DEPARTMENT OF THE TREASURY

Submission for OMB Review; Comment Request

February 18, 2010.

The Department of the Treasury will submit the following public information collection requirement(s) to OMB for review and clearance under the Paperwork Reduction Act of 1995, Public Law 104-13 on or after the publication date of this notice. A copy of the submission may be obtained by calling the Treasury Departmental Office Clearance Officer listed. Comments regarding this information collection should be addressed to the OMB reviewer listed and to the Treasury PRA Clearance Officer, Department of the Treasury, 1750 Pennsylvania Avenue, NW., Suite 11010, Washington, DC 20220.

DATES: Written comments should be received on or before March 26, 2010 to be assured of consideration.

Community Development Financial Institutions (CDFI) Fund

OMB Number: 1559-0033.

Type of Review: Revision of a currently approved collection.

Title: Quarterly Institutional Level Report.

Form: CDFI Form 0027.

Description: The CDFI Fund is requiring American Recovery and Reinvestment Act (ARRA) awardees to complete, on a quarterly basis, a much shorter version of the CDFI Fund's Institutional Level Report (ILR), which awardees currently report through the Community Investment Impact System (CIIS). The QILR will help the CDFI Fund to meet its own ARRA agency reporting requirements per OMB guidance and enable the CDFI Fund to standardize the data that ARRA awardees will be reporting separately to the CDFI Fund and http://www.FederalReporting.gov .

Respondents: Private Sector: businesses or other for-profits, not-for-profit institutions.

Estimated Total Burden Hours: 6,527 hours.

CDFI Fund Clearance Officer: Ashanti McCallum, Community Development Financial Institutions Fund, Department of the Treasury, 601 13th Street, NW., Suite 200 South, Washington, DC 20005; (202) 622-9018.

OMB Reviewer: Shagufta Ahmed, Office of Management and Budget, New Executive Office Building, Room 10235, Washington, DC 20503; (202) 395-7873.

Dawn D. Wolfgang,
Treasury PRA Clearance Officer.

[FR Doc. 2010-3570 Filed 2-23-10; 8:45 am]

BILLING CODE 4810-70-P